DEPARTMENT OF COMMERCE

International Trade Administration

North American Free-Trade Agreement, Article 1904; NAFTA Panel Reviews; Completion of Panel Review

AGENCY: NAFTA Secretariat, United States Section, International Trade Administration, Department of Commerce.

ACTION: Notice of Completion of Panel Review of the final remand determination made by the U.S. International Trade Commission, in the matter of Certain Corrosion-Resistant Carbon Steel Flat Products from Canada, Secretariat File No. USA-CDA-2000-1904-11.

SUMMARY: Pursuant to the Order of the Binational Panel dated May 20, 2005, affirming the final remand determination described above the panel review was completed on May 31, 2005.

FOR FURTHER INFORMATION CONTACT: Caratina L. Alston, United States Secretary, NAFTA Secretariat, Suite 2061, 14th and Constitution Avenue, Washington, DC 20230, (202) 482-5438.

SUPPLEMENTARY INFORMATION: On May 20, 2005, the Binational Panel issued an order which affirmed the final remand determination of the United States International Trade Commission (ITC) concerning Certain Corrosion-Resistant Carbon Steel Flat Products from Canada. The Secretariat was instructed to issue a Notice of Completion of Panel Review on the 31st day following the issuance of the Notice of Final Panel Action, if no request for an Extraordinary Challenge was filed. No such request was filed. Therefore, on the basis of the Panel Order and Rule 80 of the Article 1904 Panel Rules, the Panel Review was completed and the panelists discharged from their duties effective May 20, 2005.

Dated: July 1, 2005.
Caratina L. Alston,
United States Secretary, NAFTA Secretariat.

[FR Doc. E5-3595 Filed 7-7-05; 8:45 am]

BILLING CODE 3510-GT-P